ENVIRONMENTAL PROTECTION AGENCY

40 CFR Parts 174 and 180

[EPA-HQ-OPP-2020-0053; FRL-10010-82]

Receipt of a Pesticide Petition Filed for Residues of Pesticide Chemicals in or on Various Commodities (May 2020)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before July 24, 2020.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing receipt of a pesticide petition filed under section 408 of the Federal Food, Drug, and Cosmetic Act (FFDCA), 21 U.S.C. 346a, requesting the establishment or modification of regulations in 40 CFR part 174 and/or part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerances for Non-Inerts

1. PP 0E8828. (EPA-HQ-OPP-2020-0235). The Interregional Research Project Number 4 (IR-4), Rutgers, The State University of New Jersey, 500 College Road East, Suite 201 W, Princeton, NJ 08540, proposes upon establishment of tolerances referenced in this document under “New Tolerances” for PP 0E8828, to remove the existing tolerance in 40 CFR 180.511 for residues of buprofezin, 2-[(1,1-dimethylethyl)imino]tetrahydro-3(1-methylethyl)-5-phenyl-4H-1,3,5-thiadiazin-4-one in or on the raw agricultural commodities in or on bean, snap, succulent at 0.02 parts per million (ppm). Contact: RD.

B. New Tolerance Exemptions For Inerts (Except PIPS)

1. IN-11402. (EPA-HQ-OPP-2020-0293). The Innovative Reform Group, on behalf of The Clorox Company, P.O. Box 493, Pleasanton, CA, 94566-0803, requests to establish an exemption from the requirement of a tolerance under 40 CFR 180.940(a) for residues of various fragrance components (CAS Reg. No. multiple) when used as inert ingredients in antimicrobial pesticide formulations for use on food contact surfaces in public eating places, dairy processing equipment, and food processing equipment and utensils at end-use concentrations not to exceed 5 parts per million (ppm). Contact: RD.

2. IN-11016. (EPA-HQ-OPP-2020-0294). Verto Solutions, 1101 17th Street NW, Suite 700, Washington, DC 20036, requests to establish an exemption from the requirement of a tolerance under 40 CFR 180.940(a) for residues of various fragrance components (CAS Reg. No. multiple) when used as inert ingredients in antimicrobial pesticide formulations for use on food contact surfaces in public eating places, dairy processing equipment, and food processing equipment and utensils at end-use concentrations not to exceed 100 ppm. Contact: RD

3. IN-11373. (EPA-HQ-OPP-2020-0295). The Innovative Reform Group, on behalf of The Clorox Company, P.O. Box 493, Pleasanton, CA, 94566-0803, requests to establish an exemption from the requirement of a tolerance under 40 CFR 180.940(a) for residues of various fragrance components (CAS Reg. No. multiple) when used as inert ingredients in antimicrobial pesticide formulations for use on food contact surfaces in public eating places, dairy processing equipment, and food processing equipment and utensils at end-use concentrations not to exceed 100 ppm. Contact: RD.

4. IN-11018. (EPA-HQ-OPP-2020-0296). Verto Solutions, 1101 17th Street NW, Suite 700, Washington, DC 20036, requests to establish an exemption from the requirement of a tolerance under 40 CFR 180.940(a) for residues of various fragrance components (CAS Reg. No. multiple) when used as inert ingredients in antimicrobial pesticide formulations for use on food contact surfaces in public eating places, dairy processing equipment, and food processing equipment and utensils at end-use concentrations not to exceed 100 ppm. Contact: RD.

5. IN-11372. (EPA-HQ-OPP-2020-0297). The Innovative Reform Group, on behalf of The Clorox Company, P.O. Box 493, Pleasanton, CA, 94566-0803, requests to establish an exemption from the requirement of a tolerance under 40 CFR 180.940(a) for residues of various fragrance components (CAS Reg. No. multiple) when used as inert ingredients in antimicrobial pesticide formulations for use on food contact surfaces in public eating places, dairy processing equipment, and food processing equipment and utensils at end-use concentrations not to exceed 100 ppm. Contact: RD.

6. IN-11401. (EPA-HQ-OPP-2020-0298). The Innovative Reform Group, on behalf of The Clorox Company, P.O. Box 493, Pleasanton, CA, 94566-0803, requests to establish an exemption from the requirement of a tolerance under 40 CFR 180.940(a) for residues of various fragrance components (CAS Reg. No. multiple) when used as inert ingredients in antimicrobial pesticide formulations for use on food contact surfaces in public eating places, dairy processing equipment, and food processing equipment and utensils at end-use concentrations not to exceed 33 ppm. Contact: RD.

C. New Tolerance Exemptions For Non-Inerts (Except PIPS)

1. PP 0F8835. (EPA-HQ-OPP-2020-0286). Plant Health Care Inc., 2626 Glenwood Avenue, Suite 350, Raleigh, NC 27608, requests to establish an exemption from the requirement of a tolerance in 40 CFR part 180 for residues of the biochemical pesticide PHC 25279 in or on food crops. The petitioner believes no analytical method is needed because it is expected that, when used as proposed, PHC 25279 would not result in residues of toxicological concern based on the lack of toxicity observed in toxicology studies. Contact: BPPD.

D. New Tolerance Exemptions For PIPS

1. PP 0G8830. (EPA-HQ-OPP-2020-0234). J.R. Simplot Company, 5369 West Irving Street, Boise ID, 83706, requests to establish a temporary exemption from the requirement of a tolerance in 40 CFR part 174 for residues of the plant-incorporated protectants (PIP) BLB2 and AMR3 Late Blight resistance proteins in potato. The petitioner believes no analytical method is needed because the levels of BLB2 and AMR3 are below levels of detection and it would be impractical to demonstrate methods for detecting and measuring the levels of the pesticide residues. Contact: BPPD.

2. PP IN-11411. (EPA-HQ-OPP-2020-0237). J.R. Simplot Company, 5369 West Irving Street, Boise ID, 83706, requests to establish an exemption from the requirement of a tolerance in 40 CFR part 174 for residues of the plant-incorporated protectant (PIP) inert ingredient modified potato acetolactate synthase (StmALS), in potato. The petitioner believes no analytical method is needed because: (1) StmALS is expressed in the plant and it is not feasible to remove residues of StmALS from transformed potato events, and (2) the safety assessment of StmALS demonstrates that both hazard and exposure associated with the protein is low and that the risk to both humans and the environment is close to zero. Contact: BPPD.

E. New Tolerances For Non-Inerts

1. PP 7F8646. (EPA-HQ-OPP-2018-0053). This posting is amending the previous NOF published in the Federal Register on July 24, 2018 by announcing commodities that were left inadvertently left off. BASF Corporation, 26 Davis Dr., P.O. Box 13528, Research Triangle Park, N.C. 27709, requests to establish a tolerance in 40 CFR part 180 for residues of the insecticide, broflanilide, including its metabolites and degradates, in or on amaranth, grain; quinoa, forage; quinoa, straw; teff, forage; and teff, straw at 0.01 ppm. Tolerances are also requested for food items (animal origin) for hog, meat; poultry, meat; eggs; cattle, meat byproducts; goat, meat byproducts; hog, meat byproducts; horse, meat byproducts; poultry, meat byproducts; sheep, meat byproducts; hog, fat; and horse, fat at 0.02 ppm. The independently validated analytical method is used to measure and evaluate the chemical broflanilide and its metabolites S(PFP-OH)-8007 and DM-8007. An independently validated analytical method has been submitted for analyzing residues of parent Broflanilide plus metabolites DM-8007 and DC-DM-8007 in animal matrices by LC-MS/MS. Food handling matrices samples were analyzed for broflanilide residues using a combination of the plant and animal methods with minor modifications. Contact: RD.

2. PP 9F8759. (EPA-HQ-OPP-2019-0346). Syngenta Crop Protection, LLC. P.O. Box 18300 Greensboro, NC 27419, requests to establish an import tolerance in 40 CFR part 180 for residues of the fungicide mefenoxam metal N-(2,6-dimethylphenyl)-N-(methoxyacetyl)-DL-alaninate in or on the raw agricultural commodities Tree Nut Group 14-12, at 0.3 ppm. The analytical method used was Syngenta Crop Protection Analytical Method “Link K (2016) Metalaxyl—Analytical Method GRM075.01A for the Determination of Residues of Metalaxyl and Structurally Related Metabolites as Common Moiety 2,6-Dimethylaniline (CGA72649) in Crops”. Final sample analysis was performed using LC-MS/MS with EAG method modifications dated August 14, 2017 to measure and evaluate the chemical mefenoxam. Contact: RD.

3. PP 9E8773. (EPA-HQ-OPP-2019-0531). Mitsui Chemicals Agro, Inc. c/o Landis International, Inc., 3185 Madison Highway, P.O. Box 5126, Valdosta, GA 31603, requests to establish a tolerance in 40 CFR part 180 for residues of the fungicide Penthiopyrad, (RS)-N-[2-(1,3-dimethylbutyl)-3-thienyl]-1-methyl-3-(trifluoromethyl)-pyrazole-4-carboxamide in or on Persimmon at 3.0 ppm. High Performance Liquid Chromatography-Mass Spectrometer (LC-MS) is used to measure and evaluate the chemical Penthiopyrad. Contact: RD.

4. PP 0E8821. (EPA-HQ-OPP-2020-0113). Interregional Research Project #4 (IR-4), Rutgers, The State University of New Jersey, 500 College Road East, Suite 201 W, Princeton, NJ 08540, requests to establish tolerances with regional registrations in 40 CFR part 180.633(c) for residues of the herbicide, florasulam, N-(2, 6-difluorophenyl)-8-fluoro-5-methoxy (1, 2, 4) triazole (1, 5-c)pyrimidine-2-sulfonamide, including its metabolites and degradates, in or on grass, forage at 0.01 ppm and grass, hay at 0.02 ppm. Compliance with the tolerance levels is to be determined by measuring only florasulam in or on the commodities. The High-Performance Liquid Chromatography with Tandem Mass Spectrometry is used to measure and evaluate the chemical. Contact: RD.

5. PP 0E8828. (EPA-HQ-OPP-2020-0235). The Interregional Research Project Number 4 (IR-4), Rutgers, The State University of New Jersey, 500 College Road East, Suite 201 W, Princeton, NJ 08540, requests to establish a tolerance in 40 CFR part 180.511 for residues of buprofezin, 2-[(1,1-dimethylethyl)imino]tetrahydro-3(1-methylethyl)-5-phenyl-4H-1,3,5-thiadiazin-4-one in or on the raw agricultural commodities: Asparagus bean, edible podded at 0.02 ppm; bushberry subgroup 13-07B at 0.08 ppm, catjang bean, edible podded at 0.02 ppm; Chinese longbean, edible podded at 0.02 ppm; cowpea, edible podded at 0.02 ppm; french bean, edible podded at 0.02 ppm; garden bean, edible podded at 0.02 ppm; green bean, edible podded at 0.02 ppm; goa bean, edible podded at 0.02 ppm; guar bean, edible podded at 0.02 ppm; jackbean, edible podded at 0.02 ppm; kidney bean, edible podded at 0.02 ppm; lablab bean, edible podded at 0.02 ppm; navy bean, edible podded at 0.02 ppm; moth bean, edible podded at 0.02 ppm; mung bean, edible podded at 0.02 ppm; rice bean, edible podded at 0.02 ppm; scarlet runner bean, edible podded at 0.02 ppm; snap bean, edible podded at 0.02 ppm; sword bean, edible podded at 0.02 ppm; urd bean, edible podded at 0.02 ppm; vegetable soybean, edible podded at 0.02 ppm; velvet bean, edible podded at 0.02 ppm; wax bean, edible podded; winged pea, edible podded at 0.02 ppm; and yardlong bean, edible podded at 0.02 ppm.

In addition to the proposed tolerances, the IR-4 Project requests that EPA permit the buprofezin label instructions currently stated as “For greenhouse tomatoes and peppers”, be revised to “For Fruiting Vegetables (Crop Group 8-10)”, thus allowing buprofezin applications to all greenhouse-grown fruiting vegetables.

The enforcement analytical methods are available in PAM I and PAM II for the enforcement of buprofezin tolerances, which include gas chromatography methods with nitrogen phosphorus detection (GC/NPD), and a gas chromatography/mass spectrometry (GC/MS) method for confirmation of buprofezin residues in plant commodities to measure and evaluate buprofezin. Contact: RD.

Authority: 21 U.S.C. 346a.

Dated: June 15, 2020.
Delores Barber,
Director, Information Technology and Resources Management Division, Office of Pesticide Programs.

[FR Doc. 2020-13273 Filed 6-23-20; 8:45 am]

BILLING CODE 6560-50-P